DEPARTMENT OF THE INTERIOR

National Park Service

Notice of Inventory Completion: Arizona State Museum, University of Arizona, Tucson, AZ

AGENCY: National Park Service, Interior.

ACTION: Notice.

Notice is here given in accordance with the Native American Graves Protection and Repatriation Act (NAGPRA), 25 U.S.C. 3003, of the completion of an inventory of human remains in the possession and control of the Arizona State Museum, University of Arizona, Tucson, AZ. The human remains were removed from Pima County, AZ.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Arizona State Museum professional staff in consultation with representatives of the Ak Chin Indian Community of the Maricopa (Ak Chin) Indian Reservation, Arizona; Gila River Indian Community of the Gila River Indian Reservation, Arizona; Salt River Pima-Maricopa Indian Community of the Salt River Reservation, Arizona; and Tohono O'odham Nation of Arizona. The Tohono O'odham Nation of Arizona is acting on behalf of the Ak Chin Indian Community of the Maricopa (Ak Chin) Indian Reservation, Arizona; Gila River Indian Community of the Gila River Indian Reservation, Arizona, Salt River Pima-Maricopa Indian Community of the Salt River Reservation, Arizona; and themselves.

In 1967, human remains representing a minimum of 38 individuals were removed from the Mission San Xavier del Bac site, AZ AA:16:10(ASM), within the boundaries of the San Xavier Indian Reservation in Pima County, AZ, during legally authorized excavations conducted by the Department of Anthropology, University of Arizona, and Arizona State Museum under the direction of Bernard L. Fontana. The human remains and other project materials were donated to the Arizona State Museum in 1967. In 2005, Arizona State Museum curatorial staff examined the animal bone collections from the excavations at Mission San Xavier del Bac and discovered human remains from non-burial contexts. No known individuals were identified. No associated funerary objects are present.

The site is on church owned property and is not under the control of the Department of the Interior, Bureau of Indian Affairs. The majority of the artifacts recovered from the excavations at the San Xavier Mission site were associated with a late historic period occupation, after A.D. 1700. Cranial and dental morphology of the skeletal remains is consistent with Native American ancestry.

At the time of Spanish entry into southern Arizona in the late 17th century, the lands currently under the jurisdiction of the Tohono O'odham Nation were occupied by O'odham-speaking populations. The same populations have continued to occupy these lands throughout the historic period. The human remains removed from the Mission San Xavier del Bac site are from historic times. Cultural continuity between the historic occupants of the region and present day O'odham and Pee-Posh peoples is supported by continuities in settlement pattern, architectural technologies, basketry, textiles, ceramic technology, ritual practices, and oral traditions. The descendants of the historic O'odham and Pee-Posh are members of the Ak Chin Indian Community of the Maricopa (Ak Chin) Indian Reservation, Arizona; Gila River Indian Community of the Gila River Indian Reservation, Arizona; Salt River Pima-Maricopa Indian Community of the Salt River Reservation, Arizona; and Tohono O'odham Nation of Arizona.

Officials of the Arizona State Museum have determined that, pursuant to 25 U.S.C. 3001 (9-10), the human remains described above represent the physical remains of 38 individuals of Native American ancestry. Officials of the Arizona State Museum have determined that, pursuant to 25 U.S.C. 3001 (2), there is a relationship of shared group identity that can be reasonably traced between the Native American human remains and the Ak Chin Indian Community of the Maricopa (Ak Chin) Indian Reservation, Arizona; Gila River Indian Community of the Gila River Indian Reservation, Arizona; Salt River Pima-Maricopa Indian Community of the Salt River Reservation, Arizona; and Tohono O'odham Nation of Arizona.

Representatives of any other Indian tribe that believes itself to be culturally affiliated with the human remains should contact John Madsen, Repatriation Coordinator, Arizona State Museum, University of Arizona, Tucson, AZ 85721, telephone (520) 621-4795, before March 26, 2008. Repatriation of the human remains to the Ak Chin Indian Community of the Maricopa (Ak Chin) Indian Reservation, Arizona; Gila River Indian Community of the Gila River Indian Reservation, Arizona; Salt River Pima-Maricopa Indian Community of the Salt River Reservation, Arizona; and Tohono O'odham Nation of Arizona may proceed after that date if no additional claimants come forward.

The Arizona State Museum is responsible for notifying the Ak Chin Indian Community of the Maricopa (Ak Chin) Indian Reservation, Arizona; Gila River Indian Community of the Gila River Indian Reservation, Arizona; Salt River Pima-Maricopa Indian Community of the Salt River Reservation, Arizona; and Tohono O'odham Nation of Arizona that this notice has been published.

Dated: December 19, 2007
Sherry Hutt,
Manager, National NAGPRA Program.

[FR Doc. E8-3459 Filed 2-22-08; 8:45 am]

BILLING CODE 4312-50-S